DEPARTMENT OF TRANSPORTATION

Federal Highway Administration

Environmental Impact Statement: Clinton County, NY

AGENCY: Federal Highway Administration (FHWA), DOT.

ACTION: Notice of intent.

SUMMARY: The FHWA is issuing this notice to advise the public that an environmental impact statement will be prepared for a proposed highway project in Clinton County, New York.

FOR FURTHER INFORMATION CONTACT: Robert Arnold, Division Administrator, Federal Highway Administration, New York Division, Leo W. O'Brien Federal Building, 7th Floor, Clinton Avenue and North Pearl Street, Albany, New York 12207, Telephone: (518) 431-4127; or Albert H. Rascoe, Highway Superintendent, Clinton County Highway Department, 736 Route 3, Plattsburgh, NY, 12901, Telephone: (518) 565-4626; or R. Carey Babyak, Regional Director, New York State Department of Transportation, Region 7,317 Washington Street, Watertown, NY13601, Telephone: (315) 785-2333.

SUPPLEMENTARY INFORMATION: The FHWA, in cooperation with the New York State Department of Transportation (NYSDOT) and the Clinton County Highway Department will prepare an environmental impact statement (EIS) on a proposal to improve a portion of County Route 57 and construct a new section of County Route 57 in Clinton County, New York. The proposed project will rehabilitate County Route 57 for a distance of about 1 mile (1.6 km) from its intersection with US Route 9 to its' separation into East & West roads (perimeter road) and the construction of a new roadway from the separation down the center of the peninsula to the Lake Champlain Ferries Terminal (Grand Isle Ferry) at the southern end of the peninsula for a distance of about 3.3 miles (5.3 km). Improvements to the corridor are considered necessary to reduce traffic volumes on the existing East & West roads, improve safety, and address geometric deficiencies and incompatible usage of the existing Cumberland Head Road (County Route 57).

Alternatives given consideration include (1) taking no action; (2) widening and improving the horizontal and vertical geometry of the existing two-lane road; and (3) constructing a new two-lane limited access highway in a new location. Incorporated into and studied with the various build alternatives will be design variations of grade, intersecting roadways, and alignment.

Letters describing the proposed action and soliciting comments have been sent to appropriate Federal, State, and local agencies, and to private organizations and citizens who have previously expressed interest in this proposal. Public information meetings were held in the Town of Plattsburgh on April 4 and October 17, 2000. In addition, a public hearing will be held. Public Notice was given of the time and place of those meetings and will be given of the time and place of the hearing. The draft EIS will be available for public and agency review and comment. No formal NEPA scoping meeting is planned at this time.

To ensure that the full range of issues related to this proposed action are addressed and all significant issues identified, comments and suggestions are invited from all interested parties. Comments or questions concerning this proposed action and the EIS should be directed to the Clinton County Highway Department, the NYSDOT or FHWA at the addresses provided above.

(Catalog of Federal Domestic Assistance Program Number 20.205, Highway Planning and Construction. The regulations implementing Executive Order 12372 regarding intergovernmental consultation of Federal programs and activities apply to this program.)

Authority: 23 U.S.C. 315; 23 CFR 771.123

Issued on May 30, 2002.
Douglas P. Conlan,
District Operations Engineer, Federal Highway Administration, Albany, New York.

[FR Doc. 02-15086 Filed 6-13-02; 8:45 am]

BILLING CODE 4910-22-M